Memorandum of June 14, 2012

Delegation of Authority

Memorandum for the Secretary of State

By the authority vested in me as President by the Constitution and the laws of the United States of America, including section 301 of title 3, United States Code, I hereby delegate to you the functions conferred upon the President by section 405(c) of the Child Soldiers Prevention Act of 2008, title IV of the William Wilberforce Trafficking Victims Protection Reauthorization Act of 2008 (Public Law 110-457).

You are authorized and directed to publish this memorandum in the Federal Register.

THE WHITE HOUSE,

Washington, June 14, 2012.

[FR Doc. 2012-15397

Filed 6-21-12; 8:45 am]

Billing code 4710-10-P